DEPARTMENT OF THE INTERIOR

National Park Service

Environmental Impact Statement/General Management Plan; Kalaupapa National Historical Park, Kalawao County, Molokai, HI; Notice of Intent To Prepare an Environmental Impact Statement

SUMMARY: In accord with section 102(2)(c) of the National Environmental Policy Act of 1969 (42 U.S.C. 4321, et seq.), the National Park Service is undertaking a conservation planning and environmental impact analysis process for developing a General Management Plan (GMP) for Kalaupapa National Historical Park, Hawaii. An Environmental Impact Statement (EIS) will be prepared concurrently with the GMP. The GMP is intended to set forth the basic management philosophy for this unit of the National Park System and provide the strategies for addressing issues and achieving identified management objectives. Thus, the GMP serves as a “blueprint” to guide management of natural and cultural resources and visitor use during the next 15-20 years.

Consistent with NPS Planning Program Standards, the updated GMP will: (1) Describe the National Historical Park's purpose, significance, and primary interpretive themes; (2) identify the fundamental resources and values of the park, its other important resources and values, and describe the condition of these resources; (3) describe desired conditions for cultural and natural resources and visitor experiences throughout the park; (4) develop management zoning to support these desired conditions; (5) develop alternative applications of these management zones to the Park's landscape (i.e., zoning alternatives); (6) address user capacity; (7) analyze potential boundary modifications; (8) ensure that management recommendations are developed in consultation with interested partners and the public and adopted by NPS leadership after an adequate analysis of the benefits, environmental impacts, and economic costs of alternative courses of action; (9) develop cost estimates implementing each of the alternatives; and (10) identify and prioritize subsequent detailed studies, plans and actions that may be needed to implement the updated GMP.

Scoping Process: The park will undertake extensive scoping outreach efforts in order to elicit early public comment regarding issues and concerns, the nature and extent of potential environmental impacts (and as appropriate, mitigation measures), and alternatives which should be addressed in the GMP. Through the outreach activities planned in the scoping phase, the NPS welcomes information and suggestions from the public regarding resource protection, visitor use, and land management. This notice formally initiates the public scoping comment phase for the EIS process. All scoping comments must be postmarked or transmitted not later than July 15, 2009, and should be addressed to: General Management Plan, Attn: Steve Prokop, Superintendent, Kalaupapa National Historical Park, P.O. Box 2222, Kalaupapa, HI 96742 (or may also be transmitted electronically via http://parkplanning.nps.gov/kala). Before including your address, phone number, e-mail address, or other personal identifying information in your comment, you should be aware that your entire comment—including your personal identifying information—may be made publicly available at any time. While you can ask us in your comment to withhold your personal identifying information from public review, we cannot guarantee that we will be able to do so.

At this time, it is expected that public workshops will take place on Molokai, Oahu, and Maui, and possibly Hawaii and Kauai in late April and early May 2009. Detailed information regarding these meetings will be posted on the GMP Web site (noted above) and announced through local and regional press media. All attendees will be given the opportunity to ask questions and provide comments to the planning team. The GMP Web site will provide the most up-to-date information regarding the project, including project description, planning process updates, meeting notices, reports and documents, and useful links associated with the project.

SUPPLEMENTARY INFORMATION: Kalaupapa National Historical Park was established as a unit of the National Park System on December 22, 1980. The park is oriented toward patient privacy and maintaining the patients' lifestyles, and the patients are guaranteed they may remain at Kalaupapa as long as they wish. These park purposes will continue for as long as there is a resident Hansen's disease patient community at Kalaupapa. The park purpose also includes more “conventional” park purposes: to preserve and interpret the Kalaupapa Settlement for the education and inspiration of present and future generations; to research, preserve and maintain the historic structures and character of the community, as well as cultural values, Native Hawaiian remnants and natural features; and to provide limited visitation by the general public.

Federally owned land at Kalaupapa NHP includes a lighthouse, 23 acres surrounding it, and 7 associated structures. The remainder of the park land is currently in non-Federal ownership, managed under a lease and a series of cooperative agreements mandated by legislation. The NPS currently has a fifty year lease agreement (with 35 years remaining) for the approximately 1300 acres of the Kalaupapa Settlement owned by the Department of Hawaiian Home Lands (DHHL). The remainder of the land is owned by the State of Hawaii. Formal 20-year cooperative agreements for management have been signed with the State of Hawaii Departments of Health (DOH), Transportation (DOT), and Land and Natural Resources (DLNR); the Roman Catholic Church; and the United Church of Christ. These mandated agreements allow for preservation of critical resources, but do not provide long-term rights and interests for the NPS. Fewer than twenty-five Hansen's disease patients still reside at Kalaupapa, either in their own homes or at Kalaupapa's hospital/care-home. Most of these patients are elderly and in poor health (youngest is presently in his late sixties). Thus, a very critical need is to engage the patients in dialog about the future that they envision when there no longer is a patient community residing in the park. Crafting this long-range future planning while the patients are yet able to participate and convey their ideas and vision of how they want their story told in the future is a key element of the overall process.

The current “Statement for Management” for Kalaupapa NHP was approved in August 1987. This document provides the primary guidance for management of the resources, operations and maintenance of the park. It was preceded by the “Proposal for the Establishment of Kalaupapa National Historical Preserve” (April 1980) which was labeled as the “General Management Plan” in December 1980. In addition, an approved 1984 Resource Management Plan which provided then-available resource management direction needs to be updated. The legislation establishing the park specifically directs a re-evaluation of park management: “At such time when there is no longer a resident patient community at Kalaupapa, the Secretary shall reevaluate the policies governing the management, administration, and public use of the park in order to identify any changes deemed to be appropriate.” (Pub. L. 95-565, section 109). This is the time to begin that process. Kalaupapa NHP needs guidance for a dramatic and fundamental change in park management that will occur in the near future. As long as Hansen's disease patients remain at Kalaupapa, park operations are subservient to services and health care for the patients, patient privacy, and maintaining patients' lifestyles. The State Department of Health has substantial control over activities in Kalaupapa. Visitation is restricted to 100 people per day, no children are allowed, and the law gives patients the right of first refusal to provide visitor services. Once Kalaupapa is no longer a home and safe haven for the rapidly declining Hansen's disease population, the fundamental management direction of the park will change, and the NPS needs to be in a position to influence these changes.

A GMP is needed to establish the vision for what the park will be like when there no longer are patients residing there. The GMP will help the NPS set the agenda for discussions, negotiations and collaboration with Kalaupapa's land owners and managers, funding agencies, local Hansen's disease residents and other partners to ensure the long term protection of important resources at Kalaupapa.

Decision Process: Following the scoping phase and consideration of public concerns and other agency comments, a Draft EIS for the GMP will be prepared and released for public review. Availability of the forthcoming Draft EIS for public review and comment will be similarly announced through the Federal Register. Following due consideration of all agency and public comment, a Final EIS will be prepared. As a delegated EIS, the official responsible for the final decision on the proposed plan is the Regional Director, Pacific West Region, National Park Service. Subsequently, the official responsible for implementation of the approved plan is the Superintendent, Kalaupapa National Historical Park. It is anticipated that the final plan will be available in 2013.

Dated: January 29, 2009.
Cynthia L. Ip,
Acting Regional Director.

[FR Doc. E9-5146 Filed 3-10-09; 8:45 am]

BILLING CODE 4310-70-P